Title 3—

The President

Proclamation 10711 of March 15, 2024

National Poison Prevention Week, 2024

By the President of the United States of America

A Proclamation

Every year, Americans report more than 2 million cases of poisoning. During National Poison Prevention Week, we thank all those who staff our Nation's poison control centers for working around the clock to offer people in need life-saving guidance and care. We urge all Americans to learn how to prevent and respond to poison emergencies.

Poisoning risks abound in everyday items, from medicines and cosmetics to cleaning supplies and household chemicals. Tens of thousands of children a year end up in the emergency room after accidently ingesting household products like the small batteries found in toys and game controllers. Federal laws like the Poison Prevention Packaging Act of 1970 and the Child Nicotine Poisoning Prevention Act of 2015 have saved countless lives, decreasing accidental childhood poisoning deaths by over 70 percent since 1972. There is still more to do.

In 2022, I signed Reese's Law, which established child safety standards to reduce the risk of injury from ingesting small batteries. To avoid dangerous mix-ups, we urge everyone to label their medications clearly, to keep them away from children in child-safe packaging, and to throw them out when expired or no longer needed. The liquid nicotine used in e-cigarettes can be deadly and should be stored in child-resistant packaging.

My Administration is also taking aggressive action to combat the opioid crisis. Following the directives outlined in our National Drug Control Strategy, my Administration is working to prevent dangerous illicit drugs from ever reaching our borders by working with countries like Mexico and the People's Republic of China to disrupt the trafficking of deadly illicit fentanyl and boosting law enforcement's capabilities at the border. My Administration is funding the expansion of substance use prevention, harm reduction, treatment, and recovery services including by expanding access to lifesaving opioid-overdose-reversal medications like naloxone nationwide.

Poisoning deaths are preventable, and awareness is essential to saving lives. If you believe that you or someone you know may have ingested a toxic substance, call the National Poison Control help line immediately at 800-222-1222 to be connected to a local poison control center. Trained experts are ready to offer real-time help and can often solve a poisoning emergency over the phone. Learn more about their lifesaving services at poisonhelp.hrsa.gov.

To encourage Americans to learn more about the dangers of unintentional poisonings and to take appropriate preventive measures, on September 26, 1961, the United States Congress, by joint resolution (75 Stat. 681), authorized and requested the President to issue a proclamation designating the third week of March each year as “National Poison Prevention Week.”

NOW, THEREFORE, I, JOSEPH R. BIDEN JR., President of the United States of America, do hereby proclaim March 17 through March 23, 2024, to be National Poison Prevention Week. I call upon all Americans to observe this week by taking actions to safeguard their families and friends from poisonous products, chemicals, and medicines often found in our homes and to raise awareness of these dangers to prevent accidental injuries and deaths.

IN WITNESS WHEREOF, I have hereunto set my hand this fifteenth day of March, in the year of our Lord two thousand twenty-four, and of the Independence of the United States of America the two hundred and forty-eighth.

[FR Doc. 2024-06024

Filed 3-19-24; 8:45 am]

Billing code 3395-F4-P